DEPARTMENT OF THE INTERIOR

Fish and Wildlife Service

Availability of a Draft Environmental Assessment and Preliminary Finding of No Significant Impact, and Receipt of an Application for an Incidental Take Permit for Residential Lot Construction and Timber Harvest in North Carolina

AGENCY: Fish and Wildlife Service, Interior.

ACTION: Notice.

Crescent Resources, Inc. (Applicant) has requested an incidental take permit (ITP) pursuant to section 10(a)(1)(B) of the Endangered Species Act of 1973 (U.S.C. 1531 et seq.), as amended (Act). The Applicant anticipates incidental take of the American bald eagle (Haliaeetus leucocephalus) over the next 50 years associated with the construction of residential housing and during forest management activities. The level of incidental take requested in the ITP application is one existing bald eagle nest. This take will be in the form of harm and harassment associated with planned construction and forest management activities. The incidental take and measures to minimize and mitigate this take will occur on approximately 11,700 acres owned by the Applicant that surround Lake James in Burke and McDowell counties, North Carolina.

To compensate for the likely effects of these actions, the Applicant will provide six undeveloped sites, each with a 300-foot radius primary buffer zone (i.e., approximately 6.5 acres of land each), along the periphery of Lake James for bald eagle habitat conservation. Each mitigation site will be protected for the duration of the proposed permit and will contain at least one large, prominent pine tree that is suitable for bald eagle nest construction. In addition, several other impact minimization measures will occur including: (1) The habitat surrounding each potential nest tree on the six mitigation sites will be enhanced, if necessary; (2) two of the six mitigation sites will have a basic nesting structure installed to encourage bald eagle nest development at those sites; and (3) subdivision ordinances will be implemented that will maintain a 65-foot undeveloped setback and buffer along the shoreline of Lake James and eliminate cutting of trees greater than four inches in diameter. In addition, if, during the duration of the HCP, bald eagles construct a nest at a site other than one of the six mitigation sites, then the Applicant will protect that site instead of one of the previously chosen mitigation sites. A more detailed description of the mitigation and minimization measures to address the effects of the proposed project on bald eagles is provided in the Applicant's Habitat Conservation Plan (HCP), the draft Implementing Agreement (IA), the Service's draft Environmental Assessment (EA), and in the SUPPLEMENTARY INFORMATION section below.

This notice advises the public that the Service has opened the comment period on the permit application, the draft environmental assessment (EA), and the preliminary Finding of No Significant Impact (FONSI). The permit application includes the Applicant's habitat conservation plan and a draft Implementation Agreement. This notice is provided pursuant to section 10(a) of the Act and National Environmental Policy Act of 1969 (NEPA) regulations (40 CFR 1506.6) and advises the public that the Service has made a preliminary determination that issuing the ITP is not a major Federal action significantly affecting the quality of the human environment within the meaning of section 102(2)(C) of NEPA. The FONSI is based on information contained in the draft EA, HCP, and other permit documents. The final determination on this action will be made no sooner than 30 days from the date of this notice.

The Service specifically requests information, views, and opinions from the public via this Notice on this Federal action, including the identification of any other aspects of the human environment not already identified in the Service's draft EA. Further, the Service specifically solicits information regarding the adequacy of the HCP as measured against the Service's ITP issuance criteria found in 50 CFR parts 13 and 17.

If you wish to comment, you may submit comments by any one of several methods. Please reference permit number TE034491-0 in such comments. You may mail comments to the Service's Regional Office (see ADDRESSES). You may also comment via the internet to “lee_andrews@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

DATES: Written comments on the ITP application, draft EA, draft Implementing Agreement, and HCP should be sent to the Service's Regional Office (see ADDRESSES) and should be received on or before April 19, 2001.

ADDRESSES: Persons wishing to review the application, HCP, draft Implementing Agreement, and draft EA may obtain a copy by writing the Service's Southeast Regional Office in Atlanta, Georgia. Documents will also be available for public inspection by appointment during normal business hours at the Regional Office, 1875 Century Boulevard, Suite 200, Atlanta, Georgia 30345 (Attn: Endangered Species Permits), or Field Supervisor, U.S. Fish and Wildlife Service, 160 Zillicoa Street, Asheville, North Carolina 28801. Written data or comments concerning the application, or HCP should be submitted to the Regional Office. Please reference permit number TE034491-0 in requests of the documents discussed herein.

FOR FURTHER INFORMATION CONTACT: Mr. Lee Andrews, Regional Permit Coordinator (see ADDRESSES above), telephone: 404/679-7217, facsimile: 404/679-7081; or Mr. Mark Cantrell, Fish and Wildlife Biologist, Asheville Field Office, North Carolina (see ADDRESSES above), telephone: 828/258-3939, Ext. 227.

SUPPLEMENTARY INFORMATION: The bald eagle is a large, brown North American fish eagle that ranges from 27 to 35 inches in length, weighs from 7 to 14 pounds, and has a wingspan of up to 7 feet. Adults have a pure white head and tail while juveniles have mottled plumage. The species can be found throughout much of North America, generally in association with mature coniferous forests close to large water bodies such as rivers, lakes, estuaries, or coastlines where it feeds primarily on fish but may also hunt or scavenge other prey items.

The bald eagle below the 40th parallel was listed as endangered in 1967 in response to significant population declines due to habitat destruction, nest disturbance, illegal shooting, and food source contamination by the pesticide DDT. By the mid 1990s, efforts to reduce these threats were successful, and bald eagle populations rebounded to the point that bald eagles were reclassified as threatened in July 1995. The species is currently being considered for delisting under the Act.

By 1962, bald eagle populations in North Carolina had dwindled to only one nesting territory. However, their populations have slowly increased such that in 1999, 29 bald eagle nesting territories were documented, most of which were in the eastern portion of North Carolina, and no active nests were known west of Stanly County prior to 1999. The nest associated with the proposed project on Lake James is one of two known nests west of Stanly County, and this nest was initiated in February 1999, although successful fledging has not yet occurred at the site. No other bald eagle nests are known to occur on the Applicant's property or on other property around Lake James, but bald eagles have occasionally been observed on Lake James where other potential habitat occurs.

Construction of the Southpointe Subdivision where the bald eagle nest is located began in November 1997, and gradual development of the Applicant's 11,700 property is expected to occur over the nest 20 years. Residential lot construction has been restricted to protect the existing nest tree and the other large trees that immediately surround it such that no trees larger than 4 inches in diameter can be cut or otherwise removed. Incidental take is expected in the form of harm and harassment from noise and movement associated with construction and timber management activities during the nesting season. These impacts may disturb eagles in the immediate area and/or prevent them from nesting, resulting in incidental take through modification of habitat in the vicinity of the existing nest or future nests and/or disturbance of nesting bald eagles. The strategy that the Applicant will employ to offset the impacts of the project to the bald eagle include efforts to avoid or minimize take, combined with management to improve bald eagle nesting and foraging habitat in selected areas as described in the Applicant's HCP.

Under section 9 of the Act and its implementing regulations, “taking” of endangered and threatened wildlife is prohibited. However, the Service, under limited circumstances, may issue permits to take such wildlife if the taking is incidental to and not the purpose of otherwise lawful activities. The Applicant has prepared an HCP as required for the ITP application.

As stated above, the Service has made a preliminary determination that the issuance of the ITP is not a major Federal action significantly affecting the quality of the human environment within the meaning of section 102(2)(C) of NEPA. This preliminary information may be revised due to public comments received in response to this notice and is based on information contained in the draft EA and HCP. The Service will also evaluate whether the issuance of a section 10(a)(1)(B) ITP complies with section 7 of the Act by conducting an intra-Service section 7 consultation. The results of the biological opinion, in combination with the above findings, will be used in the final analysis to determine whether or not to issue the ITP and sign the Implementing Agreement.

Dated: March 9, 2001.
H. Dale Hall,
Acting Regional Director.

[FR Doc. 01-6811 Filed 3-19-01; 8:45 am]

BILLING CODE 4310-55-P